GENERAL SERVICES ADMINISTRATION

41 CFR Parts 101-9 and 102-192

[FPMR Amendment A- ]

RIN 3090-AH13

Mail Management

AGENCY: Office of Governmentwide Policy, GSA.

ACTION: Proposed rule; extension of comment period.

SUMMARY: The General Services Administration (GSA) proposed to revise the Federal Property Management Regulations (FPMR) coverage on Federal mail management and move it into the Federal Management Regulation (FMR). A cross-reference will be added to the FPMR to direct readers to the coverage in the FMR. A proposed rule was published in the Federal Register on May 29, 2001. GSA is extending the comment period on that proposed rule.

DATES: Your comments must reach us by September 28, 2001 to be considered in the formulation of a final rule.

ADDRESSES: Send written comments to: Michael E. Hopkins, Regulatory Secretariat (MVRS), Federal Acquisition Policy Division, General Services Administration, 1800 F Street, NW., Washington, DC 20405.

Send comments by e-mail to: RIN.3090-AH13@gsa.gov.

FOR FURTHER INFORMATION CONTACT: Henry Maury, Office of Transportation and Personal Property (MT), 202-208-7928 or henry.maury@gsa.gov.

SUPPLEMENTARY INFORMATION:

Background

The purposes of this proposed rule are to update, streamline, and clarify FPMR part 101-9, Federal Mail Management, and move that part into the Federal Management Regulation (FMR).

The proposed rule published on May 29, 2001 (66 FR 29067), gave a comment due date of July 30, 2001. Because several agencies have asked for more time, the deadline for submitting comments has been extended. Comments must be received by September 28, 2001.

Dated: July 25, 2001.
John G. Sindelar,
Deputy Associate Administrator, Office of Governmentwide Policy, General Services Administration.

[FR Doc. 01-18965 Filed 7-30-01; 8:45 am]

BILLING CODE 6820-24-P